DEPARTMENT OF TRANSPORTATION

Surface Transportation Board

[Docket No. FD 35558]

Utah Southern Railroad Company, LLC—Change in Operators Exemption—Iron Bull Railroad Company, LLC

Utah Southern Railroad Company, LLC (USRC), a noncarrier, has filed a verified notice of exemption under 49 CFR 1150.31 to change operators from Iron Bull Railroad Company (IBRC) to USRC on a rail line known as the Comstock Subdivision (the line) that extends between milepost 0.1 at or near Iron Springs, Utah, and milepost 14.7 at or near Iron Mountain, Utah, a distance of 14.6 miles in Iron County, Utah. The line is leased from Union Pacific Railroad Company by PIC Railroad, LLC (PIC) and is operated by USRC pursuant to an operating agreement with PIC. This change in operators is exempt under 49 CFR 1150.31(a)(3).¹

¹ To qualify for a change of operators exemption, an applicant must give notice to shippers on the line. See 49 CFR 1150.32(b). On October 26, 2011, USRC filed certification that notice had been given to the sole shipper on the line, CML Metals Corporation.

In 2006, IBRC filed a verified notice of exemption under 49 CFR 1150.31 for operation of the line pursuant to an operating agreement with PIC.² In a letter dated September 30, 2008, USRC notified the Board that, effective October 1, 2008, the name of IBRC was being changed to USRC. USRC now states, however, that, as of the date of that letter, USRC “had been incorporated, and acquired IBRC's operating authority, and operated [the line] as a corporation separate and distinct from IBRC.” Counsel for USRC recently became aware that USRC has a corporate existence separate from IBRC and that IBRC's corporate existence has been dissolved, and USRC therefore now files this notice to obtain the required exemption to change operators of the line.

² Iron Bull R.R.—Operation Exemption—PIC R.R., FD 34897 (STB served Sept. 14, 2006).

USRC certifies that as a result of this transaction its projected revenues will not exceed those that would qualify it as a Class III rail carrier and that such revenues would not exceed $5 million annually. As discussed above, the proposed transaction has been consummated.

If the verified notice contains false or misleading information, the exemption is void ab initio. Petitions to revoke the exemption under 49 U.S.C. 10502(d) may be filed at any time. The exemption will be effective November 20, 2011 (30 days after the notice of exemption was filed). The filing of a petition to revoke will not automatically stay the effectiveness of the exemption. Petitions for stay must be filed no later than November 10, 2011.

An original and 10 copies of all pleadings, referring to Docket No. FD 35558, must be filed with the Surface Transportation Board, 395 E Street SW., Washington, DC 20423-0001. In addition, a copy of each pleading must be served on Thomas F. McFarland, Thomas F. McFarland, P.C., 208 South LaSalle Street, Suite 1890, Chicago, IL 60604-1112.

Board decisions and notices are available on our Web site at http://www.stb.dot.gov.

Decided: November 1, 2011.
By the Board.
Rachel D. Campbell,
Director, Office of Proceedings.
Jeffrey Herzig,
Clearance Clerk.

[FR Doc. 2011-28642 Filed 11-3-11; 8:45 am]

BILLING CODE 4915-01-P